EXPORT-IMPORT BANK OF THE UNITED STATES

Sunshine Act Meeting

ACTION: Notice of an open special meeting of the board of directors of the Export-Import Bank of the United States.

TIME AND PLACE: Wednesday, September 24, 2002 at 2 p.m. The meeting will be held at Ex-Im Bank in Room 1143, 811 Vermont Avenue, NW., Washington, DC 20571.

AGENDA: Draft Revised Economic Impact Procedures.

PUBLIC PARTICIPATION: The meeting will be open to public participation.

FOR FURTHER INFORMATION CONTACT: A copy of the Draft Revised Economic Impact Procedures can be obtained at Ex-Im Bank's Web site (http://www.exim.gov). For further information, contact: Office of the Secretary, 811 Vermont Avenue, NW., Washington, DC 20571 (Telephone No. 202-565-3957 or 3336).

Peter B. Saba,
General Counsel.

[FR Doc. 02-23118 Filed 9-6-02; 3:24 pm]

BILLING CODE 6690-01-M